DEPARTMENT OF ENERGY

Federal Energy Regulatory Commission

Combined Notice of Filings

Take notice that the Commission has received the following Natural Gas Pipeline Rate and Refund Report filings:

Filings Instituting Proceedings

Docket Numbers: CP22-508-000.

Applicants: Wyoming Interstate Company, L.L.C.

Description: Submit Abbreviated Joint Application for a Certificate of Public Convenience and Necessity and Related Authorizations.

Filed Date: 09/08/22.

Accession Number: 20220908-5092.

Comment Date: 5 p.m. ET 9/29/22.

Docket Numbers: PR22-63-000.

Applicants: Worsham-Steed Gas Storage, LLC.

Description: § 284.123 Rate Filing: Notice of Non-Material Change in Ownership to be effective N/A.

Filed Date: 9/12/22.

Accession Number: 20220912-5144.

Comments/Protest Due: 5 p.m. ET 10/3/22.

Docket Numbers: PR22-64-000.

Applicants: Hill-Lake Gas Storage, LLC.

Description: § 284.123 Rate Filing: Notice of Non-Material Change in Ownership to be effective N/A.

Filed Date: 9/12/22.

Accession Number: 20220912-5146.

Comments/Protest Due: 5 p.m. ET 10/3/22.

Docket Numbers: PR22-65-000.

Applicants: Midland-Permian Pipeline LLC.

Description: § 284.123 Rate Filing: Midland-Permian Pipeline LLC Statement of Operating Conditions to be effective 9/14/2022.

Filed Date: 9/12/22.

Accession Number: 20220912-5149.

Comments/Protest Due: 5 p.m. ET 10/3/22.

Docket Numbers: RP22-1208-000.

Applicants: Northern Border Pipeline Company.

Description: § 4(d) Rate Filing: Change to Posting of Available Firm Capacity to be effective 10/12/2022.

Filed Date: 9/12/22.

Accession Number: 20220912-5038.

Comment Date: 5 p.m. ET 9/26/22.

Docket Numbers: RP22-1209-000.

Applicants: Tres Palacios Gas Storage LLC.

Description: Annual Penalty Disbursement Report of Tres Palacios Gas Storage LLC.

Filed Date: 9/12/22.

Accession Number: 20220912-5083.

Comment Date: 5 p.m. ET 9/26/22.

Docket Numbers: RP22-1210-000.

Applicants: ETC Tiger Pipeline, LLC.

Description: § 4(d) Rate Filing: Housekeeping Terminated Filed Agreements to be effective 10/12/2022.

Filed Date: 9/12/22.

Accession Number: 20220912-5092.

Comment Date: 5 p.m. ET 9/26/22.

Docket Numbers: RP22-1211-000.

Applicants: El Paso Natural Gas Company, L.L.C.

Description: § 4(d) Rate Filing: Negotiated Rate Agreement Update (Shell Sep 22) to be effective 9/13/2022.

Filed Date: 9/12/22.

Accession Number: 20220912-5093.

Comment Date: 5 p.m. ET 9/26/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2022.
Debbie-Anne A. Reese,
Deputy Secretary.

[FR Doc. 2022-20180 Filed 9-16-22; 8:45 am]

BILLING CODE 6717-01-P